DEPARTMENT OF THE INTERIOR

Fish and Wildlife Service

Intent To Prepare a Comprehensive Conservation Plan and Environmental Assessment for Eastern Neck National Wildlife Refuge

AGENCY: Fish and Wildlife Service, Interior.

ACTION: Notice of intent.

SUMMARY: This notice advises the public that the U.S. Fish and Wildlife Service (Service) intends to gather information necessary to prepare a Comprehensive Conservation Plan (CCP) and Environmental Assessment (EA) pursuant to the National Environmental Policy Act and its implementing regulations. A CCP will be prepared for Eastern Neck National Wildlife Refuge (NWR) located within the Town of Rock Hall, Maryland. The Service is furnishing this notice in compliance with the National Wildlife Refuge System Administration Act of 1966, as amended (16 U.S.C. 668dd et seq.): (1) To advise other agencies and the public of our intentions; and (2) to obtain suggestions and information on the scope of issues to include in the environmental documents.

DATES: Inquire at the address below for dates of planning activity and due dates for comments. The public scoping meetings will be held in June 2002 in the Towns of Rock Hall, Chestertown and Centreville.

ADDRESSES: Address comments, questions, and request for more information to the following: Refuge Manager, Eastern Neck National Wildlife Refuge, 1730 Eastern Neck Road, Rock Hall, Maryland 21661, 410-639-7056.

SUPPLEMENTARY INFORMATION: By Federal law, all lands within the National Wildlife Refuge System are to be managed in accordance with an approved CCP. The CCP guides management decisions and identifies refuge goals, long-range objectives, and strategies for achieving refuges purposes. The planning process will consider many elements, including habitat and wildlife management, habitat protection and acquisition, public uses, and cultural resources. Public input into this planning process is essential. The CCP will provide other agencies and the public with a clear understanding of the desired conditions for the refuges and how the Service will implement management strategies.

The Service will solicit public input via open houses, public meetings, workshops, and written comments. Special mailings, newspaper articles, and announcements will inform people of the time and place of such opportunities for public input to the CCP. Eastern Neck National Wildlife Refuge is located on Eastern Neck Island, which sits at the mouth of the Chester River in Kent County, Maryland. Total refuge acreage is 2,285 acres and includes brackish tidal marsh, cropland, forest, grassland and open water impoundments. Comments on the protection of threatened and endangered species and migratory birds, and the protection and management of their habitats will be solicited as part of the planning process.

Review of this project will be conducted in accordance with the requirements of the National Environmental Policy Act (NEPA) of 1969, as amended (42 U.S.C. 4321 et seq.), NEPA Regulations (40 CFR Parts 1500-1508), other appropriate Federal laws and regulations, and Service policies and procedures for compliance with those regulations.

Dated: June 4, 2002.
Mamie A. Parker,
Regional Director, U.S. Fish and Wildlife Service, Hadley, Massachusetts.

[FR Doc. 02-14543 Filed 6-10-02; 8:45 am]

BILLING CODE 4310-55-P